DEPARTMENT OF ENERGY

Federal Energy Regulatory Commission

[Docket No. CP00-412-000]

Cross Bay Pipeline Company, L.L.C. and Transcontinental Gas Pipe Line Corporation; Notice of Availability of the Environmental Assessment for the Proposed Cross Bay Project

August 1, 2001.

The staff of the Federal Energy Regulatory Commission (FERC or Commission) has prepared an environmental assessment (EA) on the natural gas pipeline facilities proposed by Cross Bay Pipeline Company, L.L.C. (Cross Bay) and Transcontinental Gas Pipe Line Corporation (Transco) in the above-referenced docket.

The EA was prepared to satisfy the requirements of the National Environmental Policy Act. The staff concludes that approval of the proposed project, with appropriate mitigating measures, would not constitute a major Federal action significantly affecting the quality of the human environment.

The EA assesses the potential environmental effects of the proposed project which includes the transfer of ownership, construction, and operation of natural gas pipeline facilities. Cross Bay proposes to expand the capacity of facilities in New Jersey and New York to transport an additional 125,000 dekatherms per day of natural gas to KeySpan Energy Delivery New York and KeySpan Energy Delivery Long Island. Cross Bay proposes to:

• Acquire, hydrostatically test, and replace sections of 3.27 miles of Transco's 42-inch-diameter Cross Bay Extension in Middlesex County, New Jersey;

• Acquire and uprate by hydrostatic testing 33.66 miles of Transco's 26-inch-diameter Cross Bay Extension crossing Middlesex and Monmouth Counties, New Jersey and Queens and Nassau Counties, New York;

• Acquire Transco's Morgan and Long Beach Meter Stations in Middlesex County, New Jersey and Nassau County, New York, respectively; and

• Construct and operate a 16,000-horsepower Cross Bay Compressor Station and Cross Bay Meter Station at the same location in Middlesex County, New Jersey.

The applicants also request the abandonment of certain Transco pipeline facilities by transfer to Cross Bay.

The EA has been placed in the public files of the FERC. A limited number of copies of the EA are available for distribution and public inspection at: Federal Energy Regulatory Commission, Public Reference and Files Maintenance Branch, 888 First Street, N.E., Room 2A, Washington, DC 20426, (202) 208-1371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send an original and two copies of your comments to: Secretary, Federal Energy Regulatory Commission, 888 First St., NE., Room 1A, Washington, DC 20426;

• Label one copy of the comments for the attention of the Gas Group 1;

• Reference Docket No. CP00-412-000; and

• Mail your comments so that they will be received in Washington, DC on or before August 30, 2001.

Comments, protests and interventions may also be filed electronically via the Internet in lieu of paper. See 18 CFR 385.2001(a)(1)(iii) and the instructions on the Commission's web site at http://www.ferc.gov under the “e-Filing” link and the link to the User's Guide. Before you can file comments you will need to create an account which can be created by clicking on “Login to File” and then “New User Account.”

Comments will be considered by the Commission but will not serve to make the commentor a party to the proceeding. Any person seeking to become a party to the proceeding must file a motion to intervene pursuant to Rule 214 of the Commission's Rules of Practice and Procedures (18 CFR 385.214)¹. Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the proposed project is available from the Commission's Office of External Affairs, at (202) 208-1088 or on the FERC Internet website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-19706 Filed 8-6-01; 8:45 am]

BILLING CODE 6717-01-P